DEPARTMENT OF ENERGY

Federal Energy Regulatory Commission

Combined Notice of Filings # 1

April 28, 2009.

Take notice that the Commission received the following electric rate filings:

Docket Numbers: ER99-2948-016; ER00-2917-015; ER00-2918-015; ER01-1654-017; ER01-556-014; ER05-261-008; ER02-2567-015; ER05-728-008; ER04-485-000; ER07-244-007; ER07-245-007; ER07-247-007.

Applicants: Baltimore Gas and Electric Company; Calvert Cliffs Nuclear Power Plant, Inc.; Constellation Power Source Generation Inc.; Nine Mile Point Nuclear Station, Constellation Energy Commodities Group LLC; Constellation NewEnergy, Inc.; Constellation Energy Commodities Group Maine, LLC; R.E. Ginna Nuclear Power Plant, LLC; Raven One, LLC, Raven Two, LLC, Raven Three, LLC.

Description: Constellation MBR Entities submits a supplement to their Joint Triennial Market Power Update for the Southeast Region and Notice of Change in Status filed on 12/30/08 pursuant to Order 697-A.

Filed Date: 04/22/2009.

Accession Number: 20090424-0005.

Comment Date: 5 p.m. Eastern Time on Wednesday, May 13, 2009.

Docket Numbers: ER07-22-001.

Applicants: Jump Power, LLC.

Description: Jump Power, LLC submits the revised Table of Assets for Market-Based Rate Authority and Generation Assets.

Filed Date: 04/23/2009.

Accession Number: 20090424-0006.

Comment Date: 5 p.m. Eastern Time on Thursday, May 14, 2009.

Docket Numbers: ER08-1569-002.

Applicants: PJM Interconnection L.L.C.

Description: PJM Interconnection, L.L.C. submits its Report to inform the Commission of PJM's review of the impact of the implementation of its Balancing Operating Reserve Cost Allocation method on market and system operations etc.

Filed Date: 04/20/2009.

Accession Number: 20090420-4004.

Comment Date: 5 p.m. Eastern Time on Monday, May 11, 2009.

Docket Numbers: ER09-1025-000.

Applicants: New England Gas & Electric, Inc.

Description: New England Gas & Electric, Inc. submits FERC Electric Tariff, Original Volume 1.

Filed Date: 04/24/2009.

Accession Number: 20090427-0153.

Comment Date: 5 p.m. Eastern Time on Friday, May 15, 2009.

Docket Numbers: ER09-1035-000.

Applicants: Yankee Atomic Electric Company.

Description: Petition for waiver of tariff provision re Yankee Atomic Electric Company.

Filed Date: 04/23/2009.

Accession Number: 20090424-0145.

Comment Date: 5 p.m. Eastern Time on Thursday, May 14, 2009.

Docket Numbers: ER09-1036-000.

Applicants: Connecticut Yankee Atomic Power Company.

Description: Connecticut Yankee Atomic Power Company's Petition for waiver of tariff provision.

Filed Date: 04/23/2009.

Accession Number: 20090424-0144.

Comment Date: 5 p.m. Eastern Time on Thursday, May 14, 2009.

Docket Numbers: ER09-1037-000.

Applicants: Wisconsin Power and Light Company.

Description: Application of Wisconsin Power and Light Company; Preliminary Survey and Investigation Costs for Proposed Nelson Dewey Generating Facility Unit 3.

Filed Date: 04/24/2009.

Accession Number: 20090424-5068.

Comment Date: 5 p.m. Eastern Time on Friday, May 15, 2009.

Docket Numbers: ER09-1039-000.

Applicants: Southwest Power Pool, Inc.

Description: Southern Power Pool, Inc submits for acceptance Third Revised Sheet 226 et al to its FERC Electric Tariff, Fifth Revised Volume 1.

Filed Date: 04/24/2009.

Accession Number: 20090427-0070.

Comment Date: 5 p.m. Eastern Time on Friday, May 15, 2009.

Docket Numbers: ER09-1040-000.

Applicants: PJM Interconnection L.L.C.

Description: PJM Interconnection, LLC submits Original Service Agreement 2174 to its FERC Electric Tariff, Sixth Revised Volume 1.

Filed Date: 04/24/2009.

Accession Number: 20090427-0071.

Comment Date: 5 p.m. Eastern Time on Friday, May 15, 2009.

Docket Numbers: ER09-1041-000.

Applicants: PJM Interconnection L.L.C.

Description: PJM Interconnection, LLC submits First Revised Service Agreement 1756 et al to its FERC Electric Tariff, Sixth Revised Volume 1.

Filed Date: 04/24/2009.

Accession Number: 20090427-0072.

Comment Date: 5 p.m. Eastern Time on Friday, May 15, 2009.

Docket Numbers: ER09-1042-000.

Applicants: Southwest Power Pool, Inc.

Description: Southwest Power Pool submits for acceptance First Revised Sheet 9 et al to its FERC Electric Tariff, Fifth Revised Volume 1.

Filed Date: 04/24/2009.

Accession Number: 20090427-0073.

Comment Date: 5 p.m. Eastern Time on Friday, May 15, 2009.

Take notice that the Commission received the following open access transmission tariff filings:

Docket Numbers: OA08-111-001.

Applicants: Portland General Electric Company.

Description: Portland General Electric Year 2008 Annual Informational Filing on Operational Penalty Assessments and Distributions as Required by Order Nos. 890 and 890-A.

Filed Date: 04/24/2009.

Accession Number: 20090424-5130.

Comment Date: 5 p.m. Eastern Time on Friday, May 15, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-10486 Filed 5-6-09; 8:45 am]

BILLING CODE 6717-01-P